DEPARTMENT OF TRANSPORTATION

Coast Guard

33 CFR Part 100

[CGD-00-119]

RIN 2115-AE46

Special Local Regulation: Harvard-Yale Regatta, Thames River, New London, CT

AGENCY: Coast Guard, DOT.

ACTION: Notice of implementation.

SUMMARY: This notice puts into effect the permanent regulations for the annual Harvard-Yale Regatta, a rowing competition held on the Thames River in New London, CT. The regulation is necessary to control vessel traffic within the immediate vicinity of the event due to the confined nature of the waterway and anticipated congesttion at the time of the event, thus providing for the safety of life and property on the affected navigable waters.

DATE: The regulations in 33 CFR 100.101 are effective on June 10, 2000, from 2:30 p.m. to 8 p.m. If the regatta is cancelled due to weather, this section will be in effect on the following day, Sunday June 11, 2000, from 2:30 p.m. to 8 p.m.

FOR FURTHER INFORMATION CONTACT: Petty Officer William M. Anderson, Office of Search and Rescue, First Coast Guard District, (617) 223-8460.

SUPPLEMENTARY INFORMATION: This notice implements the permanent special local regulation governing the 2000 Harvard-Yale Regatta. A portion of the Thames River in New London, Connecticut will be closed during the effective period to all vessel traffic except participants, official regatta vessels, and patrol craft. The regulated area is that area of the river between the Penn Central drawbridge and Bartlett's Cove. Additional public notification will be made via the First Coast Guard District Local Notice to Mariners and marine safety broadcasts. The full text of this regulation is found in 33 CFR 100.101.

Dated: March 28, 2000.
G.N. Naccara,
Rear Admiral, U.S. Coast Guard Commander, First Coast Guard District.

[FR Doc. 00-9935 Filed 4-19-00; 8:45 am]

BILLING CODE 4910-15-M